DEPARTMENT OF DEFENSE

Department of the Army

Board of Visitors, United States Military Academy (USMA)

AGENCY: Department of the Army, DoD.

ACTION: Meeting cancellation notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will not take place:

1. Name of Committee: United States Military Academy Board of Visitors.

2. Date: Wednesday, October 16, 2013.

3. Time: 2:00 p.m.-5:30 p.m.

4. Location: Haig Room, Jefferson Hall, West Point, New York 10996

5. Reason for Cancellation: Due to the lack of a continuing resolution and appropriated funds, the USMA Board of Visitors Meeting originally scheduled for October 16, 2013 was postponed until a date to be determined.

6. Committee's Designated Federal Officer or Point of Contact: Ms. Deadra Ghostlaw, (845) 938-4200, Deadra.Ghostlaw@us.army.mil.

7. Due to the lapse of appropriations, the Department of Defense cancelled the meeting of the U.S. Military Academy Board of Visitors on October 16, 2013. As a result, the Department of Defense was unable to provide appropriate notification as required by 41 CFR 102-3.150(a). Therefore, the Advisory Committee Management Officer for the Department of Defense, pursuant to 41 CFR 102-3.150(b), waives the 15- calendar day notification requirement.

FOR FURTHER INFORMATION CONTACT: The Committee's Designated Federal Officer or Point of Contact is Ms. Deadra Ghostlaw, (845) 938-4200, Deadra.Ghostlaw@us.army.mil.

Brenda S. Bowen,
Army Federal Register Liaison Officer.

[FR Doc. 2013-26294 Filed 11-1-13; 8:45 am]

BILLING CODE 3710-08-P